DEPARTMENT OF HEALTH AND HUMAN SERVICES

Health Resources and Services Administration

Agency Information Collection Activities: Submission to OMB for Review and Approval; Public Comment Request; Rural Health Network Development Program, OMB No. 0906-0010—Revision

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this notice has closed.

DATES: Comments on this ICR should be received no later than May 5, 2021.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Lisa Wright-Solomon, the HRSA Information Collection Clearance Officer at paperwork@hrsa.gov or call (301) 443-1984.

SUPPLEMENTARY INFORMATION: Information Collection Request Title: Rural Health Network Development Program OMB No. 0906-0010—Revision

Abstract: The Rural Health Network Development Program (RHND) is authorized under Section 330A(e) of the Public Health Service Act (42 U.S.C. 254(e)). The purpose of this program is to support integrated rural health care networks that have combined the functions of the entities participating in the network to address the health care needs of the targeted rural community. Recipients will combine the functions of the entities participating in the network to address the following legislative aims: (i) Achieve efficiencies; (ii) expand access, coordinate, and improve the quality of essential health care services; and (iii) strengthen the rural health care system as a whole.

RHND-funded programs promote population health management and the transition towards value-based care through diverse network membership that includes traditional and non-traditional network partners. Evidence of program impacted demonstrated by outcome data and program sustainability are integral components of the program. This is a 3-year competitive program for networks composed of at least three members that are separate existing health care providers or entities.

A 60-day Notice published in the Federal Register on November 19, 2020, vol. 85, No. 224, pages 73728-73729. There were no public comments.

Need and Proposed Use of the Information: This program needs measures that will enable HRSA to provide aggregate program data required by Congress under the Government Performance and Results Act of 1993. These measures cover the principal topic areas of interest to the Federal Office of Rural Health Policy, including: (a) Access to care; (b) population demographics; (c) staffing; (d) consortium/network; (e) sustainability; and (f) project specific domains. All measures will evaluate HRSA's progress toward achieving its goals.

The proposed changes of RHND measures are a result of the accumulation of grantee feedback, peer-reviewed research, and information gathered from the previously approved RHND program measures. The proposed changes include additional questions surrounding the network's components of sustainability. Questions surrounding Health Information Technology and Telehealth have been modified to reflect updated knowledge on the use of both and to improve understanding of how these important technologies are affecting HRSA grantees. Additional National Quality Forum measures were also included in an effort to allow uniform collection efforts throughout the Federal Office of Rural Health Policy.

Likely Respondents: Respondents will be awardees of the Rural Health Network Development Program.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Performance Improvement and Measurement System Database | 44 | 1 | 44 | 6 | 264
Total | 44 |  | 44 |  | 264

HRSA specifically requests comments on: (1) The necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2021-06880 Filed 4-2-21; 8:45 am]

BILLING CODE 4165-15-P